NUCLEAR REGULATORY COMMISSION

[NRC-2017-0151]

Information Collection: Domestic Licensing of Production and Utilization Facilities; Correction

AGENCY: Nuclear Regulatory Commission.

ACTION: Revision of existing information collection; request for comment; correction.

SUMMARY: The U.S. Nuclear Regulatory Commission (NRC) is correcting a notice that was published in the Federal Register on January 13, 2020 soliciting public comment on the revision of an existing collection of information. This action is necessary to correct the Docket ID listed in the body of the notice.

DATES: The correction takes effect on January 21, 2020.

ADDRESSES: You may submit comments by any of the following methods:

• Federal Rulemaking Website: Go to https://www.regulations.gov and search for Docket ID NRC-2017-0151. Address questions about NRC docket IDs in Regulations.gov to Jennifer Borges; telephone: 301-287-9127; email: Jennifer.Borges@nrc.gov. For technical questions, contact the individuals listed in the FOR FURTHER INFORMATION CONTACT section of this document.

• Mail comments to: David Cullison, Office of the Chief Information Officer, Mail Stop: T6-A10M, U.S. Nuclear Regulatory Commission, Washington, DC 20555-0001.

FOR FURTHER INFORMATION CONTACT: David Cullison, Office of the Chief Information Officer, U.S. Nuclear Regulatory Commission, Washington, DC 20555-0001; telephone: 301-415-2084; email: INFOCOLLECTS.Resource@NRC.GOV.

SUPPLEMENTARY INFORMATION:

Correction

In the Federal Register (FR) on January 13, 2020 (85 FR 1825), in FR Doc 2020-00284, on page 1826, column 1, lines 1 and 39, correct the Docket ID “NRC-2018-0215” to read “NRC-2017-0151.”

Dated at Rockville, Maryland, this 14th day of January, 2020.
For the Nuclear Regulatory Commission.
David C. Cullison,
NRC Clearance Officer, Office of the Chief Information Officer.

[FR Doc. 2020-00797 Filed 1-17-20; 8:45 am]

BILLING CODE 7590-01-P